DEPARTMENT OF ENERGY

Cooper Environmental Services, LLC

AGENCY: Office of the General Counsel, Department of Energy.

ACTION: Notice of intent to grant exclusive patent license.

SUMMARY: Notice is hereby given of an intent to grant to Cooper Environmental Services, LLC, of Portland, Oregon, an exclusive license to practice the invention described in U.S. Patent No. 6,200,816 B1, entitled “Method For Measuring Particulate And Gaseous Metals In A Fluid Stream; Device For Measuring Particulate And Gaseous Metals In A Fluid Stream.” The invention is owned by the United States of America, as represented by the Department of Energy (DOE).

DATES: Written comments or nonexclusive license applications are to be received at the address listed below no later than June 19, 2003.

ADDRESSES: Office of the Assistant General Counsel for Technology Transfer and Intellectual Property, U.S. Department of Energy, 1000 Independence Avenue, SW., Washington, DC 20585.

FOR FURTHER INFORMATION CONTACT: Robert J. Marchick, Office of the Assistant General Counsel for Technology Transfer and Intellectual Property, U.S. Department of Energy, Forrestal Building, Room 6F-067, 1000 Independence Avenue, SW., Washington, DC 20585; Telephone (202) 586-4792.

SUPPLEMENTARY INFORMATION: 35 U.S.C. 209(a) provides the Department with authority to grant exclusive licenses in Department-owned inventions, where a determination can be made, among other things, that granting the license is a reasonable and necessary incentive to call forth the investment capital and expenditures needed to bring the invention to practical application, or to otherwise promote the invention's utilization by the public. The statute and implementing regulations (37 CFR part 404) require that the necessary determinations be made after public notice and opportunity for filing written objections.

Cooper Environmental Systems, LLC, of Portland, Oregon, has applied for an exclusive license to practice the invention embodied in U.S. Patent No. 6,200,816 B1, and has a plan for commercialization of the invention.

The exclusive license will be subject to a license and other rights retained by the U.S. Government, and other terms and conditions to be negotiated. DOE intends to grant the license, upon a final determination in accordance with 35 U.S.C. 209, unless, within 15 days of this notice, the Assistant General Counsel for Technology Transfer and Intellectual Property, Department of Energy, Washington, DC. 20585, receives in writing any of the following, together with supporting documents:

(i) A statement from any person setting forth reasons why it would not be in the best interest of the United States to grant the proposed license; or

(ii) An application for a nonexclusive license to the invention, in which applicant states that he already has brought the invention to practical application or is likely to bring the invention to practical application expeditiously.

The Department will review all timely written responses to this notice, and will grant the license if, after consideration of written responses to this notice, a determination is made, that the license grant is in the public interest.

Issued in Washington, DC, on May 30, 2003.
Paul A. Gottlieb,
Assistant General Counsel for Technology Transfer and Intellectual Property.

[FR Doc. 03-14027 Filed 6-3-03; 8:45 am]

BILLING CODE 6450-01-P